DEPARTMENT OF HEALTH AND HUMAN SERVICES

Centers for Medicare and Medicaid Services

[Document Identifier: CMS-10014]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection; Title of Information Collection: Informatics, Telemedicine, and Education Demonstration Project; Form No.: CMS-10014 (OMB# 0938-0806 ); Use: Section 4207 of the Balanced Budget Act of 1997 mandated CMS to conduct a demonstration project to evaluate the effectiveness of advanced computer and telecommunications technology (“telemedicine”) to manage the care of people with diabetes. CMS issued a request for proposals and, after review of the responses, selected a consortium led by Columbia University to conduct this project; Frequency: Semi-annually; Affected Public: Business or other for profit, individuals or households; Number of Respondents: 5,550; Total Annual Responses: 10,043; Total Annual Hours: 19,999.

To obtain copies of the supporting statement and any related forms for the proposed paperwork collections referenced above, access CMS Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: New Executive Office Building, Room 10235, Washington, DC 20503.

Dated: May 15, 2002.
John P. Burke III,
Paperwork Reduction Act Team Leader, CMS Reports Clearance Officer, CMS Office of Information Services, Security and Standards Group, Division of CMS Enterprise Standards.

[FR Doc. 02-13184 Filed 5-24-02; 8:45 am]

BILLING CODE 4120-03-P